ENVIRONMENTAL PROTECTION AGENCY

[EPA-R10-OAR-2017-0516; FRL-9967-44-Region 10]

Proposed Information Collection Request; Comment Request; Federal Implementation Plans Under the Clean Air Act for Indian Reservations in Idaho, Oregon and Washington; EPA ICR No. 2020.06, OMB Control No. 2060-0558

AGENCY: Environmental Protection Agency (EPA).

ACTION: Notice.

SUMMARY: The Environmental Protection Agency (EPA) is planning to submit an information collection request (ICR), “Proposed Information Collection Request; Comment Request; Federal Implementation Plans under the Clean Air Act for Indian Reservations in Idaho, Oregon and Washington” (EPA ICR No. 2020.06, OMB Control No. 2060-0558) to the Office of Management and Budget (OMB) for review and approval in accordance with the Paperwork Reduction Act. Before doing so, EPA is soliciting public comments on specific aspects of the proposed information collection as described below. This is a proposed extension of the ICR, which is currently approved through March 31, 2018. An Agency may not conduct or sponsor and a person is not required to respond to a collection of information unless it displays a currently valid OMB control number.

DATES: Comments must be submitted on or before November 20, 2017.

ADDRESSES: Submit your comments, referencing Docket ID No. EPA-R10-OAR-2017-0516, online using www.regulations.gov (our preferred method), by email to R10-Public_Comments@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Andra Bosneag, Office of Air and Waste, Environmental Protection Agency Region 10, 1200 Sixth Ave, Seattle, WA 98101; telephone number: (206) 553-1226; fax number: (206) 553-0110; email address: bosneag.andra@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA promulgated Federal Implementation Plans (FIPs) under the Clean Air Act for Indian reservations located in Idaho, Oregon, and Washington in 40 CFR part 49 (70 FR 18074, April 8, 2005). The FIPs in the final rule, also referred to as the Federal Air Rules for Indian Reservations in Idaho, Oregon, and Washington (FARR), include information collection requirements associated with the partial delegation of administrative authority to a Tribe in § 49.122; the rule for limiting visible emissions at § 49.124; fugitive particulate matter rule in § 49.126, the wood waste burner rule in § 49.127; the rule for limiting sulfur in fuels in § 49.130; the rule for open burning in § 49.131; the rules for general open burning permits, agricultural burning permits, and forestry and silvicultural burning permits in §§ 49.132, 49.133, and 49.134; the rule for emissions detrimental to human health and welfare in § 49.135; the registration rule in § 49.138; and the rule for non-Title V operating permits in § 49.139. EPA uses this information to manage the activities and sources of air pollution on the Indian reservations in Idaho, Oregon, and Washington. EPA believes these information collection requirements are appropriate because they will enable EPA to develop and maintain accurate records of air pollution sources and their emissions, track emissions trends and changes, identify potential air quality problems, allow EPA to issue permits or approvals, and ensure appropriate records are available to verify compliance with these FIPs. The information collection requirements listed above are all mandatory. Regulated entities can assert claims of business confidentiality and EPA will address these claims in accordance with the provisions of 40 CFR part 2, subpart B.

Form Numbers:

The forms associated with this ICR are:

EPA Form 7630-1—Nez Perce Reservation Air Quality Permit: Agricultural Burn

EPA Form 7630-2—Nez Perce Reservation Air Quality Permit: Forestry Burn

EPA Form 7630-3—Nez Perce Reservation Air Quality Permit: Large Open Burn

EPA Form 7630-4—Initial or Annual Source Registration

EPA Form 7630-5—Report of Change of Ownership

EPA Form 7630-6—Report of Closure

EPA Form 7630-7—Report of Relocation

EPA Form 7630-9—Non-Title V Operating Permit Application Form

EPA Form 7630-10—Umatilla Indian Reservation: Agricultural Burn Permit Application

EPA Form 7630-11—Umatilla Indian Reservation: Forestry Burn Permit Application

EPA Form 7630-12—Umatilla Indian Reservation Large Open Burn Permit Application

The forms listed above are available for review in the EPA docket.

Respondents/affected entities: Respondents or affected entities potentially affected by this action include owners and operators of emission sources in all industry groups and tribal governments, located in the identified Indian reservations. Categories and entities potentially affected by this action are expected to include:

Category | NAICS ᵃ | Examples of regulated entities
Industry | 11211 | Beef Cattle Ranching and Farming.
| 212313 | Crushed and Broken Granite Mining and Quarrying.
| 212319 | Other Crushed and Broken Stone Mining and Quarrying.
| 212321 | Construction Sand and Gravel Mining.
| 221210 | Natural Gas Distribution.
| 31142 | Fruit and Vegetable Canning, Pickling, and Drying.
| 311421 | Fruit and Vegetable Canning.
| 311710 | Seafood Product Preparation and Packaging.
| 311942 | Spice and Extract Manufacturing.
| 321113 | Sawmills.
| 321212 | Softwood Veneer and Plywood Manufacturing.
| 321999 | All Other Miscellaneous Wood Product Manufacturing.
| 324121 | Asphalt Paving Mixture and Block Manufacturing.
| 325199 | All Other Basic Organic Chemical Manufacturing.
| 326199 | All Other Plastics Product Manufacturing.
| 327320 | Ready-Mix Concrete Manufacturing.
| 332117 | Powder Metallurgy Part Manufacturing.
| 332431 | Metal Can Manufacturing.
| 332813 | Electroplating, Plating, Polishing, Anodizing, and Coloring.
| 332999 | All Other Miscellaneous Fabricated Metal Product Manufacturing.
| 337110 | Wood Kitchen Cabinet and Countertop Manufacturing.
| 424510 | Grain and Field Bean Merchant Wholesalers.
| 447190 | Other Gasoline Stations.
| 454310 | Fuel Dealers.
| 488190 | Other Support Activities for Air Transportation.
| 721120 | Casino Hotels.
| 811121 | Automotive Body, Paint, and Interior Repair and Maintenance.
| 81121 | Electronic and Precision Equipment Repair and Maintenance.
Federal government | 924110 | Administration of Air and Water Resources and Solid Waste Management Programs.
State/local/tribal government | 924110 | Administration of Air and Water Resources and Solid Waste Management Programs
ᵃ North American Industry Classification System.

This table is not intended to be exhaustive, but rather provides a guide for readers regarding entities potentially affected by this action.

Respondent's obligation to respond: Respondents obligation to respond is mandatory. See 40 CFR 49.122, 49.124, 49.126, 49.130-135, 49.138, and 49.139.

Estimated number of respondents: 1,766 (total).

Frequency of response: Annual or on occasion

Total estimated burden: 5,436 hours (per year). Burden is defined at 5 CFR 1320.03(b)

Total estimated cost: $388,457 (per year), includes $0 annualized capital or operation & maintenance costs.

Changes in Estimates: There is an increase of 367 hours in the total estimated respondent burden compared with the ICR currently approved by OMB. This increase is based on an increase in the estimated number of sources subject to the requirements in §§ 49.126, 49.130, 49.131, 49.132A, 49.138, and 49.139 since the ICR was updated in 2015.

Dated: August 30, 2017.
Tim Hamlin,
Director, Office of Air and Waste.

[FR Doc. 2017-20167 Filed 9-20-17; 8:45 am]

BILLING CODE 6560-50-P